DEPARTMENT OF ENERGY

Federal Energy Regulatory Commission

[Docket Nos. RP01-55-000 and RP01-37-000 (Not Consolidated)]

WestGas InterState, Inc., Equitrans, L.P.; Notice of Request for Exemption

October 19, 2000.

Take notice that on October 10, 2000, WestGas InterState, Inc. (WGI), and Equitrans, L.P. (Equitrans) tendered for filing separately their petition for exemption from the imbalance trading requirements of 18 CFR 284.12(c)(2)(ii), of the Commission regulations, which requires pipelines to implement imbalance netting and trading on their systems.

WGI and Equitrans states that copies of this filing have been served on their jurisdictional customers and public bodies.

Any person desiring to be heard or to protest said filings should file a motion to intervene or a protest with the Federal Energy Regulatory Commission, 888 First Street, NE., Washington, DC 20426, in accordance with Sections 385.214 or 385.211 of the Commission's Rules and Regulations. All such motions or protests must be filed on or before October 26, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27345 Filed 10-24-00; 8:45 am]

BILLING CODE 6717-01-M